DEPARTMENT OF ENERGY

Federal Energy Regulatory Commission

Combined Notice of Filings #1

Take notice that the Commission received the following electric corporate filings:

Docket Numbers: EC11-119-000.

Applicants: Mario J. Gabelli, GGCP, Inc., GGCP Holdings, LLC, GAMCO Investors, Inc.

Description: Request for Blanket Authorizations to Acquire Securities under Section 203(a) of the Federal Power Act.

Filed Date: 09/19/2011.

Accession Number: 20110919-5043.

Comment Date: 5 p.m. Eastern Time on Tuesday, October 11, 2011.

Take notice that the Commission received the following exempt wholesale generator filings:

Docket Numbers: EG11-127-000.

Applicants: Invenergy Illinois Solar I LLC.

Description: Notice of Self-Certification of Exempt Wholesale Generator Status of Invenergy Illinois Solar I LLC.

Filed Date: 09/16/2011.

Accession Number: 20110916-5077.

Comment Date: 5 p.m. Eastern Time on Friday, October 07, 2011.

Take notice that the Commission received the following electric rate filings:

Docket Numbers: ER11-2547-004.

Applicants: New York Independent System Operator, Inc.

Description: New York Independent System Operator, Inc. submits tariff filing per 35: NYISO Compliance Filing to Correct EITC Fomula to be effective 5/18/2011.

Filed Date: 09/16/2011.

Accession Number: 20110916-5094.

Comment Date: 5 p.m. Eastern Time on Friday, October 07, 2011.

Docket Numbers: ER11-4013-001.

Applicants: PJM Interconnection, L.L.C., Commonwealth Edison Company.

Description: PJM Interconnection, L.L.C. submits tariff filing per 35.17(b): PJM and ComEd submit responses to FERC's August 31, 2011 Letter, to be effective 6/15/2011.

Filed Date: 09/16/2011.

Accession Number: 20110916-5162.

Comment Date: 5 p.m. Eastern Time on Friday, October 07, 2011.

Docket Numbers: ER11-4501-001.

Applicants: Caney River Wind Project, LLC.

Description: Caney River Wind Project, LLC submits tariff filing per 35.17(b): Caney River Wind Project, LLC Amended MBR Tariff to be effective 10/1/2011.

Filed Date: 09/16/2011.

Accession Number: 20110916-5146.

Comment Date: 5 p.m. Eastern Time on Friday, October 07, 2011.

Docket Numbers: ER11-4552-000.

Applicants: ONEOK Energy Services Company, L.P.

Description: ONEOK Energy Services Company, L.P. submits tariff filing per 35.1: ONEOK Energy Services Company Baseline MBR Filing to be effective 9/16/2011.

Filed Date: 09/16/2011.

Accession Number: 20110916-5082.

Comment Date: 5 p.m. Eastern Time on Friday, October 07, 2011.

Docket Numbers: ER11-4553-000.

Applicants: PacifiCorp.

Description: PacifiCorp submits tariff filing per 35.13(a)(2)(iii: OATT Revised Sections 13 and 14 to be effective 8/1/2011.

Filed Date: 09/16/2011.

Accession Number: 20110916-5105.

Comment Date: 5 p.m. Eastern Time on Friday, October 07, 2011.

Docket Numbers: ER11-4554-000.

Applicants: El Paso Electric Company.

Description: El Paso Electric Company submits tariff filing per 35: Compliance Filing of El Paso-Tucson Settlement, EL06-45-000, EL06-46-000 to be effective 9/1/2011.

Filed Date: 09/16/2011.

Accession Number: 20110916-5107

Comment Date: 5:00 p.m. Eastern Time on Friday, October 07, 2011.

Docket Numbers: ER11-4555-000.

Applicants: ONEOK Energy Services Company, L.P.

Description: ONEOK Energy Services Company, L.P. submits tariff filing per 35: ONEOK Energy Services Order No. 697 Compliance Filing of MBR Tariff to be effective 9/16/2011.

Filed Date: 09/16/2011.

Accession Number: 20110916-5108.

Comment Date: 5 p.m. Eastern Time on Friday, October 07, 2011.

Docket Numbers: ER11-4556-000.

Applicants: New England Power Company.

Description: Notice of Cancellation of FERC Service Agreement No. IA-NEP-14 with Dominion Energy Salem Harbor, LLC, by New England Power Company.

Filed Date: 09/16/2011.

Accession Number: 20110916-5129.

Comment Date: 5 p.m. Eastern Time on Friday, October 07, 2011.

Docket Numbers: ER11-4557-000.

Applicants: GS Electric Generating Cooperative Inc.

Description: Notice of Non-Jurisdictional Status and Withdrawal of Rate Schedule of GS Electric Generating Cooperative, Inc.

Filed Date: 09/16/2011.

Accession Number: 20110916-5180.

Comment Date: 5 p.m. Eastern Time on Friday, October 07, 2011.

Take notice that the Commission received the following electric securities filings:

Docket Numbers: ES11-46-000.

Applicants: PECO Energy Company.

Description: Application of PECO Energy Company under Section 204 of the Federal Power Act for Authorization of the Issuance of Securities.

Filed Date: 09/16/2011.

Accession Number: 20110916-5095.

Comment Date: 5 p.m. Eastern Time on Friday, October 07, 2011.

Docket Numbers: ES11-47-000.

Applicants: Commonwealth Edison Company.

Description: Application of Commonwealth Edison Company under Section 204 of the Federal Power Act for Authorization of the Issuance of Securities.

Filed Date: 09/16/2011.

Accession Number: 20110916-5097.

Comment Date: 5 p.m. Eastern Time on Friday, October 07, 2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 19, 2011.
Nathaniel J. Davis, Sr.,
Deputy Secretary.

[FR Doc. 2011-24740 Filed 9-26-11; 8:45 am]

BILLING CODE 6717-01-P